DEPARTMENT OF TRANSPORTATION

Federal Aviation Administration

Notice of Availability of a Tier 1 Draft Environmental Impact Statement (DEIS) for FAA Site Approval and Land Acquisition by the State of Illinois for a Proposed South Suburban Airport, and Notice of Public Comment Period and Schedule of Public Hearing

AGENCY: Federal Aviation Administration (FAA), DOT.

ACTION: Notice of availability, notice of public comment period, notice of public hearing.

SUMMARY: The Federal Aviation Administration (FAA) is issuing this notice to advise the public that a Tier 1 Draft Environmental Impact Statement (DEIS)—FAA Site Approval and Land Acquisition by the State of Illinois for a Proposed South Suburban Airport, has been prepared and is available for public review and comment. Written requests for the Tier 1 DEIS and written comments on the Tier 1 DEIS can be submitted to the individual listed in the section FOR FURTHER INFORMATION CONTACT. A public hearing will be held on October 4, 2001. The public comment period will commence on August 31, 2001 and will close on October 23, 2001.

PUBLIC COMMENT AND A WORKSHOP/MEETING: The start of the public comment period on the Tier 1 DEIS will be August 31, 2001 and will end on October 23, 2001 (which includes the Council on Environmental Quality's required 45 day public comment period). A Public Hearing will be held on October 4, 2001. Public comments will begin at 4:00 p.m. The public hearing will last till 8:00 p.m. The location for the public hearing is the Holiday Inn, 500 Holiday Plaza Drive, Matteson, Illinois.

Copies of the Tier 1 DEIS may be viewed during regular business hours at the following locations:

1. Chicago Airports District Office, Room 312, Federal Aviation Administration, 2300 East Devon Avenue, Des Plaines, Illinois 60018.

2. Governors State University Library, Governors State University, University Park, Illinois 60466.

3. Joliet Public Library, 150 North Ottawa Street, Joliet, Illinois 60432.

4. Northwestern University Library, 1935 Sheridan Road, Evanston, Illinois 60202.

5. Harold Washington Public Library, 400 South State Street, Chicago, Illinois 60605.

6. Kankakee Public Library, 304 South Indiana, Kankakee, Illinois 60901.

7. Matteson Public Library, 801 South School Avenue, Matteson, Illinois 60443.

8. Crete Public Library, 1177 North Main Street, Crete, Illinois 60417.

9. Indiana University Northwest Library, 3400 Broadway, Gary, Indiana 46408.

10. Purdue University, Calumet Campus Library, 2200 169th Street, Hammond, Indiana 46323.

11. Village of Manteno, Village Hall, 269 North Main Street, Manteno, Illinois 60950.

12. Village of Monee, Village Hall, 5130 West Court Street, Monee, Illinois 60449.

13. Village of Beecher, Village Hall, 724 Penfield, Beecher, Illinois 60401.

14. Village of Peotone, Village Hall, 208 East Main Street, Peotone, Illinois 60468.

15. College of DuPage, Learning Resources Center (Library), 425 Second Street, Glen Ellyn, Illinois 60137.

16. Chicago Southland Development Inc., Third Airport Information Clearinghouse, 1655 Union Avenue, Chicago Heights, Illinois 60411.

17. Illinois Department of Transportation, 310 South Michigan Avenue, Chicago, Illinois 60604.

18. Illinois Department of Transportation, Illinois Division of Aeronautics, One Langhorne Bond Drive/Capital Airport, Springfield, Illinois 62707.

19. Illinois Department of Transportation, South Suburban Airport Program Office, 4749 Lincoln Mall Drive, Suite 501, Matteson Illinois 60443.

FOR FURTHER INFORMATION, CONTACT: Denis R. Rewerts, Capacity Officer, Federal Aviation Administration, Chicago Airports District Office, Room 312, 2300 East Devon Avenue, Des Plaines, Illinois 60018. Mr. Rewerts can be contacted at (847) 294-7195 (voice), (847) 294-7046 (facsimile) or by e-mail at 9-AGL-SSA-EIS-PROJECT@faa.gov.

SUPPLEMENTARY INFORMATION: At the request of the State of Illinois, Department of Transportation, the FAA is preparing a tiered Environmental Impact Statement for site approval of a potential future air carrier airport in the south suburban area of Chicago. FAA Site approval and acquisition of land by the State of Illinois would preserve the option of developing a potential, future air carrier airport to serve the greater Chicago region if determined necessary and appropriate to meet future aviation capacity needs in the region. All reasonable alternatives will be considered including the no-action option. No use of Federal funds or Airport Layout Plan approval nor approval of any airport facilities is contemplated under this action. A subsequent tier, or tiers, may be prepared and considered at a later date to assess the potential impacts resulting from development of aviation facilities, as these issues become ripe for decision.

Comments from interested parties on the Tier 1 DEIS are encouraged and may be presented verbally at a public hearing or may be submitted in writing to the FAA at the address listed in section entitled for information contact. The comment period will close on October 23, 2001.

Issued in Des Plaines, Illinois, on August 22, 2001.
Philip M. Smithmeyer,
Manager, Chicago Airports District Office, FAA, Great Lakes Region.

[FR Doc. 01-21827 Filed 8-28-01; 8:45 am]

BILLING CODE 4910-13-M